DEPARTMENT OF THE INTERIOR

Fish and Wildlife Service

Availability of the Final Comprehensive Conservation Plan and Summary for Salinas River National Wildlife Refuge, Monterey County, CA

AGENCY: Fish and Wildlife Service, Interior.

ACTION: Notice of availability.

SUMMARY: The U.S. Fish and Wildlife Service announces that a Final Comprehensive Conservation Plan (CCP) and a Summary for Salinas River National Wildlife Refuge (Refuge) are available for distribution. The CCP, prepared pursuant to the National Wildlife Refuge System Improvement Act of 1997 and in accordance with the National Environmental Policy Act of 1969, describes how the U.S. Fish and Wildlife Service intends to manage the Refuge for the next 15 years. The compatibility determinations for waterfowl hunting, surf fishing access, wildlife observation and photography, environmental education and interpretation, research, and mosquito control are also available with the CCP.

DATES: The Final CCP is available now. The finding of no significant impact (FONSI) was signed on December 20, 2002. Implementation of the plan began after the FONSI was signed.

ADDRESSES: Copies of the Final CCP or Summary may be obtained by writing to U.S. Fish and Wildlife Service, Attn: Mark Pelz, California/Nevada Refuge Planning Office, Room W-1916, 2800 Cottage Way, Sacramento, California, 95825. Copies of the plan may be viewed at this address or at the San Francisco Bay NWR Complex Headquarters, 1 Marshlands Road, Fremont, California. The Final CCP will also be available online for viewing and downloading at http://pacific.fws.gov/planning.

FOR FURTHER INFORMATION CONTACT: Mark Pelz, U.S. Fish and Wildlife Service, California/Nevada Refuge Planning Office, Room W-1916, 2800 Cottage Way, Sacramento, California, 95825; 916-414-6500; fax 916-414-6512.

SUPPLEMENTARY INFORMATION:

Background

The Salinas River Refuge encompasses 367 acres 11 miles north of Monterey, California, where the Salinas River empties into Monterey Bay. The Refuge is part of the San Francisco Bay National Wildlife Refuge Complex, which has its headquarters in Fremont, California. Refuge lands include a range of terrestrial and aquatic habitats, including coastal dunes and beach, grasslands, wetlands, and riparian scrub. Because of its location within the Pacific Flyway, the Refuge is used by a variety of migratory birds during breeding, wintering, and migration periods. The Refuge also provides habitat for several threatened and endangered species, including western snowy plover, California brown pelican, Smith's blue butterfly, Monterey gilia, and Monterey spineflower. Approximately 40 species that exist or are suspected to exist on the Refuge are considered sensitive by Federal or State agencies. Current recreational uses on the Refuge include wildlife observation and photography, waterfowl hunting, and access to surf fishing.

The availability of the Draft CCP/Environmental Assessment (EA) for 30-day public review and comment was noticed in the Federal Register on Wednesday, November 14, 2001, in volume 66, number 220. The Draft CCP/EA identified and evaluated four alternatives for managing the Refuge for the next 15 years. Alternative 1 was the no-action alternative—current Refuge management would continue. Under Alternative 2, the Refuge would focus exclusively on protecting, enhancing, and restoring natural resources and would be closed to all public use except guided tours led by Service staff. Alternative 3 emphasized improving current management through inventories, monitoring, and increasing protection for threatened and endangered species. Existing public use of the Refuge would be improved but not substantially expanded. Under Alternative 4, public use of the Refuge would be improved and expanded. Management programs for endangered species and native habitats would also be expanded and improved to minimize and offset potential effects of increased public use. The Service received eight comment letters on the Draft CCP. The comments received were incorporated into the CCP and are responded to in an appendix to the CCP. Alternative 3 was selected for implementation and is the basis for the Final CCP.

With the management program described in the Final CCP, informational signs and interpretive exhibits will be installed on the Refuge and a wheelchair-accessible trail to the Salinas River will be constructed. In addition, the existing parking lot will be improved (i.e., graded and covered with gravel). The seasonal waterfowl hunting area will be reduced by approximately 15 percent to protect roosting California brown pelicans. All of the current management activities will continue. Some activities, such as special-status species inventories, will be substantially expanded. New management tools and techniques will include: using prescribed fire to augment mowing and herbicide use in the grassland/shrubland habitat; conducting inventories of all habitats on the Refuge; translocating problem avian predators of the western snowy plover; and creating a geographical information system database to track vegetation and population trends. In addition, the Service will pursue a long-term lease with the State Lands Commission to manage the beach and tidelands below mean high water. Full implementation of this alternative will require increased staffing and funding.

Dated: April 30, 2003.
D. Kenneth McDermond,
Acting Manager, California/Nevada Operations Office, Fish and Wildlife Service, Sacramento, California.

[FR Doc. 03-11252 Filed 5-6-03; 8:45 am]

BILLING CODE 4310-55-P